DEPARTMENT OF LABOR

Occupational Safety and Health Administration

[Docket No. ICR-1218-0179(2001)]

Methylene Chloride Standard (29 CFR 1910.1052); Extension of the Office of Management and Budget's (OMB) Approval of the Information-Collection (Paperwork) Requirements

AGENCY: Occupational Safety and Health Administration (OSHA), Labor.

ACTION: Notice of an opportunity for public comment.

SUMMARY: OSHA solicits comments concerning its request to extend OMB approval of the collection-of-information requirements specified by the Methylene Chloride Standard (29 CFR 1910.1052).

DATES: Submit written comments on or before July 30, 2001.

ADDRESSES: Submit written comments to the Docket Office, Docket No. ICR-1218-0179(2001), OSHA, U.S. Department of Labor, Room N-2625, 200 Constitution Avenue, NW., Washington, DC 20210; telephone (202) 693-2350. Commenters may transmit written comments of 10 pages or less by facsimile to (202) 693-1648.

FOR FURTHER INFORMATION CONTACT: Todd Owen, Directorate of Policy, OSHA, U.S. Department of Labor, Room N-3641, 200 Constitution Avenue, NW., Washington, DC 20210; telephone (202) 693-2444. A copy of the Agency's Information-Collection Request (ICR) supporting the need for the information collections specified in the Methylene Chloride Standard is available for inspection and copying in the docket Office or by requesting a copy from Todd Owen at (202) 693-2444. For electronic copies of the ICR contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct.

The information-collection requirements specified in the methylene chloride (MC) Standard protect employees from the adverse health effects that may result from exposure to MC. In terms of burden-hour estimates, the major information-collection requirements in the MC Standard include employee exposure monitoring, notifying employees of their MC exposures, administering medical examinations to employees, providing examining physicians with specific program and employee information, ensuring that employees receive a copy of their medical-examination results, maintaining employees' exposure-monitoring and medical-examination records for specific periods, and providing access to these records by OSHA, the National Institute for Occupational Safety and Health, the affected employees, and their authorized representatives.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA is requesting to extend OMB approval of the collection-of-information requirements in the MC Standard. The Agency will summarize the comments submitted in response to this notice, and will include this summary in its request to OMB to extend the approval of this information-collection requirements.

Type of Review: Extension of currently approved information-collection requirements.

Title: Methylene Chloride.

OMB Number: 1218-0179.

Affected Public: Business or other for-profit; not-for-profit institutions; Federal government; State, local or tribal governments.

Number of Respondents: 92,000.

Frequency of Response: Occasionally.

Average Time Per Response: Varies from 1 hour for administering a medical examination to 5 minutes to maintain an employee's medical or exposure record.

Estimated Total Burden Hours: 524,615 hours.

Estimated Cost (Operation and Maintenance): $46,248,000.

IV. Authority and Signature

R. Davis Layne, Acting Assistant Secretary of Labor for Occupational Safety and Health, directed the preparation of this notice. The authority for this notice is the Paperwork Reduction Act of 1995 (44 U.S.C. 3506), Secretary of Labor's Order 3-2000 (65 FR 50017).

Signed at Washington, DC on May 24, 2001.
R. Davis Layne,
Acting Assistant Secretary of Labor.

[FR Doc. 01-13648 Filed 5-30-01; 8:45 am]

BILLING CODE 4510-26-M